ENVIRONMENTAL PROTECTION AGENCY

[FRL-10020-97-Region 9]

Public Water System Supervision Program Revision for the State of Arizona

AGENCY: Environmental Protection Agency (EPA).

ACTION: Notice of tentative approval.

SUMMARY: Notice is hereby given that the State of Arizona revised its approved Public Water System Supervision (PWSS) Program under the federal Safe Drinking Water Act (SDWA) by adopting the Lead and Copper Rule (LCR), LCR Minor Revisions (LCR-MR) and LCR Short-Term Revisions (LCR-STR). The Environmental Protection Agency (EPA) has determined that these revisions are no less stringent than the corresponding Federal regulations and otherwise meet applicable SDWA primacy requirements. Therefore, EPA intends to approve the stated revisions to the State's PWSS Program.

DATES: A request for a public hearing must be received on or before April 12, 2021.

ADDRESSES: All documents relating to this determination are available for inspection between the hours of 8:30 a.m. and 4:30 p.m., Monday through Friday, at the following office: Arizona Department of Environmental Quality, Records Center, 1110 West Washington Street, Phoenix, AZ 85007; or please contact the person identified in the FOR FURTHER INFORMATION CONTACT section for additional availability information. Documents relating to this determination are also available online at http://azdeq.gov/notices for inspection.

FOR FURTHER INFORMATION CONTACT: Daria Evans-Walker, United States Environmental Protection Agency, Region 9, Drinking Water Section, 75 Hawthorne Street (WTR-4-1), San Francisco, California 94105; telephone number: (415) 972-3451; email address: evans-walker.daria@epa.gov.

SUPPLEMENTARY INFORMATION: Background. The EPA approved the State of Arizona's initial application for PWSS Program primary enforcement authority (“primacy”), which became effective on August 25, 1978 (43 FR 38083). States with primacy must adopt and submit for EPA approval all new and revised national primary drinking water regulations. Since initial approval, EPA has approved various revisions to Arizona's PWSS Program. For the revisions covered by this action, the EPA promulgated the Lead and Copper Rule (LCR) on June 7, 1991 (56 FR 26460). EPA modified this rule with technical amendments that were published in the Federal Register on July 15, 1991 (56 FR 32113), June 29, 1992 (57 FR 28786), and June 30, 1994 (59 FR 33860). The EPA proposed the LCR-MR on April 12, 1996 (60 FR 16348) and finalized the LCR-MR on January 12, 2000 (65 FR 1949). The EPA proposed the LCR-STR on July 18, 2006 (71 FR 40828) and published the final LCR-STR on October 10, 2007 (72 FR 57782). EPA has determined that the LCR, LCR-MR and LCR-STR requirements were incorporated by reference into the Arizona Administrative Code (AAC) Title 18, Chapter 4, Article 1 and AAC Title 9, Chapter 14, Article 1, in a manner that Arizona's regulations are comparable to and no less stringent than federal requirements for these programs. Therefore, EPA intends to approve these revisions as part of the State's PWSS Program.

Public Process. Any interested party may request a public hearing on this determination. A request for a public hearing must be received or postmarked by April 12, 2021, and addressed to the Regional Administrator at the EPA Region 9 via the following email address: R9dw-program@epa.gov. The Regional Administrator may deny frivolous or insubstantial requests for a hearing. If a substantial request for a public hearing is made by April 12, 2021, EPA Region 9 will hold a public hearing. Any request for a public hearing shall include the following information: 1. The name, address, and telephone number of the individual, organization, or other entity requesting a hearing; 2. A brief statement of the requesting person's interest in the Regional Administrator's determination and a brief statement of the information that the requesting person intends to submit at such hearing; and 3. The signature of the individual making the request, or, if the request is made on behalf of an organization or other entity, the signature of a responsible official of the organization or other entity.

If EPA Region 9 does not receive a timely and appropriate request for a hearing and the Regional Administrator does not elect to hold a hearing on his own motion, this determination shall become final and effective on April 12, 2021, and no further public notice will be issued.

Authority: Section 1413 of the Safe Drinking Water Act, as amended, 42 U.S.C. 300g-2 (1996), and 40 CFR part 142 of the National Primary Drinking Water Regulations.

Dated: March 5, 2021.
Deborah Jordan,
Acting Regional Administrator, EPA Region 9.

[FR Doc. 2021-05212 Filed 3-11-21; 8:45 am]

BILLING CODE 6560-50-P